DEPARTMENT OF TRANSPORTATION

Federal Aviation Administration

14 CFR Part 39

[Docket No. 99-NM-227-AD; Amendment 39-12050; AD 2000-15-17 R1]

RIN 2120-AA64

Airworthiness Directives; McDonnell Douglas Model DC-9-81 (MD-81), DC-9-82 (MD-82), DC-9-83 (MD-83), and DC-987 (MD-87); Model MD-88 Airplanes; and Model MD-90-30 Series Airplanes

AGENCY: Federal Aviation Administration, DOT.

ACTION: Final rule; correction.

SUMMARY: This document corrects a typographical error that appeared in airworthiness directive (AD) 2000-15-17 that was published in the Federal Register on August 8, 2000 (65 FR 48368). The typographical error resulted in the omission of an airplane model from paragraph (c) of the AD. This AD is applicable to certain McDonnell Douglas Model DC-9-81 (MD-81), DC-9-82 (MD-82), DC-9-83 (MD-83), and DC-9-87 (MD-87); Model MD-88 airplanes; and Model MD-90-30 series airplanes. This AD requires installation of a pipe support and clamps on the hydraulic lines in the aft fuselage; replacement of the hydraulic pipe assembly in the aft fuselage with a new pipe assembly; and installation of drain tube assemblies and diverter assemblies in the area of the auxiliary power unit inlet; as applicable.

DATES: Effective September 12, 2000.

FOR FURTHER INFORMATION CONTACT: Albert Lam, Aerospace Engineer, Systems and Equipment Branch, ANM-130L, FAA, Los Angeles Aircraft Certification Office, 3960 Paramount Boulevard, Lakewood, California 90712-4137; telephone (562) 627-5346; fax (562) 627-5210.

SUPPLEMENTARY INFORMATION: Airworthiness Directive (AD) 2000-15-17, amendment 39-11849, applicable to certain McDonnell Douglas Model DC-9-81 (MD-81), DC-9-82 (MD-82), DC-9-83 (MD-83), and DC-9-87 (MD-87); Model MD-88 airplanes; and Model MD-90-30 series airplanes, was published in the Federal Register on August 8, 2000 (65 FR 48368). That AD requires installation of a pipe support and clamps on the hydraulic lines in the aft fuselage; replacement of the hydraulic pipe assembly in the aft fuselage with a new pipe assembly; and installation of drain tube assemblies and diverter assemblies in the area of the auxiliary power unit (APU) inlet; as applicable.

As published, that AD contained a typographical error in paragraph (c) of the AD, which resulted in the omission of Model MD-88 airplanes from its applicability. It was the FAA's intent that the applicability of paragraph (c) of the AD be parallel to that recommended by the manufacturer in its referenced service bulletin (i.e., McDonnell Douglas Service Bulletin MD80-53-286, dated September 3, 1999). As was indicated under the heading “Explanation of Relevant Service Information” in the preamble of the notice of proposed rulemaking (NPRM), McDonnell Douglas Service Bulletin MD80-53-286, dated September 3, 1999, affects McDonnell Douglas Model DC-9-81 (MD-81), DC-9-82 (MD-82), DC-9-83 (MD-83), and DC-9-87 (MD-87) series airplanes, and Model MD-88 airplanes.

Since no other part of the regulatory information has been changed, the final rule is not being republished.

The effective date of this AD remains September 12, 2000.

§ 39.13 [Corrected]

On page 48371, in the first column, paragraph (c) of AD 2000-15-17 is corrected to read as follows:

2000-15-17 McDonnell Douglas: Amendment 39-11849. Docket 99-NM-227-AD.

* * * * *

(c) For Model DC-9-81 (MD-81), DC-9-82 (MD-82), DC-9-83 (MD-83), and DC-9-87 (MD-87) series airplanes, and Model MD-88 airplanes, as listed in McDonnell Douglas Service Bulletin MD80-53-286, dated September 3, 1999; and Model MD-90-30 series airplanes, as listed in McDonnell Douglas Service Bulletin MD90-53-018, dated September 3, 1999: Within 36 months after the effective date of this AD, install drain tube assemblies and diverter assemblies in the area of the APU inlet, in accordance with the applicable service bulletin.

* * * * *

Issued in Renton, Washington, on December 18, 2000.
Dorenda D. Baker,
Acting Manager, Transport Airplane Directorate, Aircraft Certification Service.

[FR Doc. 00-32761 Filed 12-26-00; 8:45 am]

BILLING CODE 4910-13-U